ENVIRONMENTAL PROTECTION AGENCY

[FRL-7466-8]

Clinch and Powell Valley Watershed Ecological Risk Assessment

AGENCY: Environmental Protection Agency.

ACTION: Notice of availability of final document.

SUMMARY: The U.S. Environmental Protection Agency (EPA) announces the availability of a final document, Clinch and Powell Valley Watershed Ecological Risk Assessment (EPA/600/R-01/050, September 2002), prepared as a collaborative effort between the National Center for Environmental Assessment—Washington (NCEA-W) within EPA's Office of Research and Development, The Nature Conservancy, the U.S. Fish and Wildlife Service, the Tennessee Valley Authority, and other organizations. This watershed ecological risk assessment was developed to help protect the native mussels and fish of the Clinch and Powell Valley watershed. The report is based on the Guidelines for Ecological Risk Assessment (U.S. EPA, 1998) and advice and support from NCEA, while exercising the necessary flexibility to implement the risk assessment approach at the watershed scale. The document includes brief descriptions of the process that the workgroup followed and the major analyses performed.

ADDRESSES: The document is available electronically from the NCEA Web site (http://www.epa.gov/ncea) under Selected Topics, Watershed Assessment. A limited number of copies will be available from EPA's National Service Center for Environmental Publications (NSCEP), P.O. Box 42419, Cincinnati, OH 45242; telephone: 1-800-490-9198 or 513-489-8190; facsimile 513-489-8695. Please provide your name and mailing address and the title and EPA number when ordering from NSCEP. Documents also may be ordered via the Internet at http://www.epa.gov/NCEPIhome/orderpub.html. Paper copies may be purchased from the National Technical Information Service (NTIS) in Springfield, VA (1-800-553-NTIS[6847] or 703-605-6000; facsimile 703-321-8547). Please provide the number, PB2003-101118, when ordering this document from NTIS.

FOR FURTHER INFORMATION CONTACT: For further information, please contact Victor Serveiss, National Center for Environmental Assessment (8623D), U.S. Environmental Protection Agency, Washington, DC 20460; telephone: 202-564-3251; facsimile: 202-565-0076; e-mail: serveiss.victor@epa.gov.

Dated: March 6, 2003.
George Alapas,
Acting Director, National Center for Environmental Assessment.

[FR Doc. 03-6194 Filed 3-13-03; 8:45 am]

BILLING CODE 6560-50-P